DEPARTMENT OF COMMERCE

Foreign-Trade Zones Board

[Order No. 1225]

Expansion of Foreign-Trade Zone 171, Liberty County, TX

Pursuant to its authority under the Foreign-Trade Zones Act of June 18, 1934, as amended (19 U.S.C. 81a-81u), the Foreign-Trade Zones Board (the Board) adopts the following Order:

Whereas, the Liberty County Economic Development Corporation, grantee of Foreign-Trade Zone 171, submitted an application to the Board for authority to expand FTZ status at a site (200 acres) within the Cedar Crossing Industrial Park, designated as Site 6, and to restore FTZ status to the Port of Liberty County Industrial Park (45 acres), designated as Site 2, located in Liberty County, Texas, adjacent to the Houston Customs port of entry (FTZ Docket 31-2001; filed 7/3/01);

Whereas, notice inviting public comment was given in the Federal Register (66 FR 36251, 7/11/01) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to expand FTZ 171 is approved, subject to the Act and the Board's regulations, including Section 400.28.

Signed at Washington, DC, this 15th day of April, 2002.
Faryar Shirzad,
Assistant Secretary of Commerce for Import Administration, Alternate Chairman, Foreign-Trade Zones Board.

[FR Doc. 02-10074 Filed 4-23-02; 8:45 am]

BILLING CODE 3510-DS-P